DEPARTMENT OF ENERGY

Federal Energy Regulatory Commission

[Docket No. RP03-6-000]

Maritimes & Northeast Pipeline L.L.C.; Notice of Proposed Changes in FERC Gas Tariff

October 4, 2002.

Take notice that on October 1, 2002, Maritimes & Northeast Pipeline, L.L.C. (Maritimes) tendered for filing as part of its FERC Gas Tariff, First Revised Volume No. 1, the following tariff sheets to become effective on November 1, 2002.

Fourth Revised Sheet No. 11

Second Rev First Revised Sheet No. 265

Maritimes states that it is making this Fuel Retainage Quantity filing, pursuant to Section 20 of the General Terms and Conditions (GT&C) of its FERC Gas Tariff. Maritimes is proposing a reduction of 0.60% to the Winter Period Fuel Reimbursement Percentages (FRP) and also a reduction of 0.50% to the Spring Shoulder Period. The projected FRPs for each of the four periods will be 0.90%. In addition, Maritimes respectfully requests to revise its tariff to reflect an Index Price defined as the average of the daily Midpoint prices as published by Platts, Gas Daily for Dracut, Mass.during the relevant month, less the 100% load factor Rate Schedule MN365 maximum recourse rate in effect for such month.

Maritimes also states that it is submitting the calculation of the fuel retainage quantity (FRQ) Deferred Account amount, pursuant to Section 20 of the GT&C, which provides that Maritimes will calculate surcharges or refunds designed to amortize the net monetary value of the balance in the FRQ Deferred Account at the end of the previous accumulation period.

Maritimes states that for the period August 1, 2001 through July 31, 2002, the FRQ Deferred Account resulted in a net credit balance of approximately $863,848.29, inclusive of carrying charges, that will be refunded to Maritimes' customers.

Maritimes states that copies of this filing were mailed to all affected customers of Maritimes and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-25835 Filed 10-10-02; 8:45 am]

BILLING CODE 6717-01-P